DEPARTMENT OF DEFENSE

Department of the Air Force

U.S. Air Force Exclusive Software License

AGENCY: Air Force Research Laboratory Information Directorate, Rome, New York, Department of the Air Force, DoD.

ACTION: Notice of intent to issue an exclusive software license.

SUMMARY: Pursuant to the Code of Federal Regulations, which implements Public Law, the Department of the Air Force announces its intention to grant On The Curb, Inc., a New York corporation, having a place of business at 326 Broad Street, Utica, New York 13501, an exclusive license under the authority of Section 801 of Public Law 113-66 (2014 National Defense Authorization Act) limited to the field of use in Finance, Hospitality, and Consumer Products, to any right, title and interest the United States Air Force has in: Data Sculptor Version 1 and Data Sculptor Version 2 Source Code and Software Documentation (collectively “Licensed Software”).

FOR FURTHER INFORMATION CONTACT: An exclusive license in the aforesaid field of use for this software will be granted unless a written objection is received within fifteen (15) days from the date of publication of this Notice. Written objections should be sent to: Stephen Colenzo, Air Force Research Laboratory, Office of the Staff Judge Advocate, AFRL/RIJ, 26 Electronic Parkway, Rome, New York 13441-4514. Email: stephen.colenzo@us.af.mil; Telephone: (315) 330-2087; Facsimile (315) 330-7583.

Carlinda N. Lotson,
Acting Air Force Federal Register Liaison Officer.

[FR Doc. 2019-11112 Filed 5-28-19; 8:45 am]

BILLING CODE 5001-10-P